DEPARTMENT OF THE INTERIOR

Bureau of Land Management

[UT080-1610-DH]

Notice of Availability of a Draft Resource Management Plan Revision and Environmental Impact Statement (EIS) for the Vernal Field Office Planning Area, in Daggett, Duchesne, and Uintah Counties, Utah

AGENCY: Bureau of Land Management, Interior.

ACTION: Notice of availability.

SUMMARY: In accordance with the National Environmental Policy Act (NEPA) of 1969, the Federal Land Policy and Management Act of 1976 (FLPMA), and regulatory requirements, a Draft RMP Revision/EIS has been prepared for the Vernal Field Office planning area and is available for a 90 day public review and comment period. The Draft RMP Revision/EIS may be viewed and downloaded in PDF format at the project Web site at http://www.vernalrmp.com. Copies of the Draft RMP Revision/EIS will also be available for distribution and review during the comment period at the BLM Vernal Field Office, at the address shown below.

DATES: Written comments on the Draft RMP Revision/EIS will be accepted for 90 days following publication of the EPA Notice of Availability. Future public meetings and any other public involvement activities will be announced at least 15 days in advance through public notices, local media news releases, mailings, and the project Web site at: http://www.vernalrmp.com.

ADDRESSES: Written comments should be sent to: Vernal Field Office RMP Comments—Attention Dave Moore, Vernal Field Office, Bureau of Land Management, 170 South 500 East, Vernal, Utah 84078. Comments may also be made electronically at: http://www.vernalrmp.com. Comments, including names and addresses of respondents, will be available for public review at the BLM Vernal Field Office, 170 South 500 East, Vernal, Utah during normal business hours (8 a.m. to 4:30 p.m., except weekends and holidays). All submissions from organizations or businesses will be made available for public inspection in their entirety. Individuals may request confidentiality with respect to their name, address, and phone number. If you wish to have your name or street address withheld from public review, or from disclosure under the Freedom of Information Act, the first line of the comment should start with the words “CONFIDENTIALITY REQUESTED” in uppercase letters in order for BLM to comply with your request. Such requests will be honored to the extent allowed by law. Comment contents will not be kept confidential.

FOR FURTHER INFORMATION CONTACT: For further information and/or to have your name added to the planning project mailing list, visit the Web site shown above. You may also contact Dave Moore, Supervisory Planning Coordinator, Bureau of Land Management, Vernal Field Office, 170 South 500 East, Vernal, Utah 84078, telephone: (435) 781-4400, or e-mail through the Web site: http://www.vernalrmp.com.

SUPPLEMENTARY INFORMATION: The planning area includes all of the public land and federal mineral ownership managed by the Vernal Field Office in Daggett, Duchesne, and Uintah Counties, in northeast Utah, and about 3,000 acres in Grand County. The planning area encompasses public lands currently managed under the Book Cliffs and Diamond Mountain Resource Management Plans (RMP). This area includes approximately 1.8 million acres of BLM administered surface lands and 2.1 million acres of federal mineral lands under federal, state, private, and Ute Tribal surface in the three county areas.

The Draft RMP Revision/EIS addresses alternatives, management guidance, monitoring, and impact analysis of the alternatives. The alternatives present differing management balances between the various resources and uses. This planning effort will revise the Book Cliffs (1985) and Diamond Mountain (1994) RMPs. Once approved, the Record of Decision (ROD) for the Vernal Field Office RMP Revision will supercede all existing management plans for the planning area. SWCA Environmental Consultants in Salt Lake City, Utah is assisting the BLM in the planning process and in the preparation of the document. In order to receive full consideration, comments should focus on specific management actions being considered and the adequacy of analysis. Responses to the comments will be published as part of the Final RMP Revision/EIS. The Draft RMP Revision/EIS contains four alternatives (including the No Action Alternative). Major issues considered are: management of oil and gas resources, special designation areas, wildlife, special status plants and animals, regional air quality, and recreation.

Dated: November 3, 2004.
Gene R. Terland,
Associate State Director.

[FR Doc. 05-730 Filed 1-13-05; 8:45 am]

BILLING CODE 4310-DQ-P